DEPARTMENT OF HOMELAND SECURITY

Office of the Secretary

[Docket No. DHS-2011-0083]

Privacy Act of 1974; Department of Homeland Security/United States Secret Service—004 Protection Information System of Records

AGENCY: Privacy Office, DHS.

ACTION: Notice of Privacy Act system of records.

SUMMARY: In accordance with the Privacy Act of 1974, and as part of the Department of Homeland Security's biennial review of system of record notices, DHS/United States Secret Service proposes to update and reissue a current Department of Homeland Security system of records titled, “Department of Homeland Security/United States Secret Service—004 Protection Information System of Records.” As a result of biennial review of this system, information has been updated within the categories of individuals covered in this system and categories of records in this system in order to further define and narrow categories. Routine Use I and J were merged for the purpose of narrowing scope and clarifying why information would be shared. The notification procedures were updated to clarify the reason for exemption and the method for access. Additionally, the Department of Homeland Security previously published a Final Rule in the Federal Register to exempt this system of records from certain provisions of the Privacy Act. The current updates to this system of records do not impact the nature of the exemptions claimed; the exemptions continue to apply to this update. This updated system will be included in the Department of Homeland Security's inventory of record systems.

DATES: Written comments must be submitted on or before November 28, 2011.

ADDRESSES: You may submit comments, identified by docket number DHS-2011-0083, by one of the following methods:

• Federal e-Rulemaking Portal: http://www.regulations.gov. Follow the instructions for submitting comments.

• Fax: 1-(866) 466-5370.

• Mail: Mary Ellen Callahan, Chief Privacy Officer, Privacy Office, Department of Homeland Security, Washington, DC 20528.

• Instructions: All submissions received must include the agency name and docket number for this rulemaking. All comments received will be posted without change to http://www.regulations.gov, including any personal information provided.

• Docket: For access to the docket, to read background documents, or comments received go to http://www.regulations.gov.

FOR FURTHER INFORMATION CONTACT: For general questions please contact: Latita Payne (202) 406-6370), Privacy Officer, United States Secret Service, 245 Murray Lane, SW., Building T-5, Washington, DC 20223. For privacy issues please contact: Mary Ellen Callahan (703) 235-0780), Chief Privacy Officer, Privacy Office, U.S. Department of Homeland Security, Washington, DC 20528.

SUPPLEMENTARY INFORMATION:

I. Background

In accordance with the Privacy Act of 1974, 5 U.S.C. 552a, and as part of the Department of Homeland Security's (DHS) biennial review of system of record notices, DHS/United States Secret Service (USSS) proposes to update and reissue a current DHS system of records titled, DHS/USSS-004 Protection Information System of Records. As a result of biennial review of this system, records have been updated within the categories of individuals covered in this system and categories of records in this system in order to further define, narrow, and eliminate duplicative categories. Routine Use I and J were merged for the purpose of narrowing scope and clarification. The notification procedures were updated to clarify the reason for exemption and the method for access. This updated system will be included in DHS's inventory of record systems.

Additionally, DHS previously published a Final Rule in the Federal Register to exempt this system of records from certain provisions of the Privacy Act. The current updates to this system of records do not impact the nature of the exemptions claimed; the exemptions continue to apply to this update. This updated system will be included in the Department of Homeland Security's inventory of record systems.

II. Privacy Act

The Privacy Act embodies fair information principles in a statutory framework governing the means by which the United States Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass United States citizens and lawful permanent residents. As a matter of policy, DHS extends administrative Privacy Act protections to all individuals where systems of records maintain information on U.S. citizens, lawful permanent residents, and visitors. Individuals may request access to their own records that are maintained in a system of records in the possession or under the control of DHS by complying with DHS Privacy Act regulations, 6 CFR part 5.

The Privacy Act requires that each agency publish in the Federal Register a description denoting the type and character of each system of records in order to make agency recordkeeping practices transparent, to notify individuals about the use of their records, and to assist the individual to more easily find files within the agency. Below is a description of the Protection Information System.

In accordance with 5 U.S.C. 552a(r), DHS has provided a report of this revised system of records to the Office of Management and Budget and to the Congress.

System of Records

Department of Homeland Security (DHS)/United States Secret Service (USSS)-004

System name:

DHS/USSS-004 Protection Information System

Security classification:

Unclassified and Classified.

System location:

Records are maintained at the United States Secret Service Headquarters, 950 H St., NW., Washington, DC 20223, other locations in Washington, DC, and field offices.

Categories of individuals covered by the system:

• Individuals who have been or are currently the subject of a criminal investigation by USSS or another law enforcement agency for the violation of certain criminal statutes relating to the safety of persons or security of properties, facilities, and areas protected by USSS;

• Individuals who are the subjects of investigative records and reports supplied to USSS by Federal, State, and local law enforcement agencies, foreign or domestic, other non-law enforcement governmental agencies, or private institutions and individuals, in conjunction with the protective function of USSS;

• Individuals who are the subjects of non-criminal protective and background investigations by USSS and other law enforcement agencies;

• Individuals who are granted or denied ingress and egress to areas secured by USSS, or to areas in proximity to persons protected by USSS, including but not limited to: invitees; passholders; tradesmen; and law enforcement, maintenance, or service personnel;

• Individuals who are witnesses, protectees, suspects, complainants, informants, defendants, fugitives, released prisoners, and correspondents who have been identified by USSS or from information supplied by other law enforcement agencies, governmental units, private institutions, and members of the general public in connection with USSS performance of its authorized protective functions;

• Individuals who have sought an audience or contact with persons protected by USSS;

• Individuals who have been involved in incidents or events which relate to the protective functions of the USSS; and

• Individuals protected by the USSS.

Categories of records in the system:

• Individual's name;

• Address;

• Date of Birth;

• Case number;

• Arrest record;

• Nature and disposition of criminal charges, sentencing, confinement, release, and parole or probation status;

• Records concerning agency activities associated with protectee movements and other protective measures taken on a protectee's behalf;

• Records containing information compiled for the purpose of identifying and evaluating individuals who may constitute a threat to the safety of persons or security of areas protected by the USSS;

• Records containing information compiled for the purpose of a criminal investigation, including reports of informants and investigators, which are associated with an identifiable individual;

• Informant's name and contact information (e.g., address; phone number);

• Records containing reports relative to an individual compiled at various stages of the process of enforcement of certain criminal laws from arrest or indictment through release from supervision;

• Records containing information supplied by other Federal, State, and local law enforcement agencies, foreign or domestic, other non-law enforcement governmental agencies, private institutions and persons concerning individuals who, because of their activities, personality traits, criminal or mental history, or history of social deviancy, may be of interest to the USSS in connection with the performance by that agency of its protective functions; and

• Records containing information compiled for the purpose of background investigations of individuals, including but not limited to, passholders, tradesmen, maintenance or service personnel who have access and/or have been denied access to areas secured by or who may be in proximity to persons protected by USSS.

Authority for maintenance of the system:

The Homeland Security Act of 2002, Public Law 107-296; 5 U.S.C. 301; Federal Records Act, 44 U.S.C. 3101; 18 U.S.C. 3056; 18 U.S.C. 3056A and 6 CFR part 5.

Purpose(s):

The purpose of this system is to assist USSS in protecting its protectees by recording information necessary to implement protective measures and to investigate individuals who may come into proximity with a protectee, including individuals who have been involved in incidents or events which relate to the protective functions of the USSS, and individuals who have sought to make contact with a protectee.

Routine uses of records maintained in the system, including categories of users and the purposes of such uses:

In addition to those disclosures generally permitted under 5 U.S.C. 552a(b) of the Privacy Act, all or a portion of the records or information contained in this system may be disclosed outside the Department of Homeland Security (DHS) as a routine use pursuant to 5 U.S.C. 552a(b)(3) as follows:

A. To the Department of Justice or other federal agency conducting litigation or in proceedings before any court, adjudicative or administrative body, when it is necessary to the litigation and one of the following is a party to the litigation or has an interest in such litigation:

1. DHS or any component thereof;

2. Any employee of DHS in his/her official capacity;

3. Any employee of DHS in his/her individual capacity where DOJ or DHS has agreed to represent the employee; or

4. The United States or any agency thereof, is a party to the litigation or has an interest in such litigation, and DHS determines that the records are both relevant and necessary to the litigation and the use of such records is compatible with the purpose for which DHS collected the records.

B. To a congressional office from the record of an individual in response to an inquiry from that congressional office made at the request of the individual to whom the record pertains.

C. To the National Archives and Records Administration or other federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. DHS suspects or has confirmed that the security or confidentiality of information in the system of records has been compromised;

2. The Department has determined that as a result of the suspected or confirmed compromise there is a risk of harm to economic or property interests, identity theft or fraud, or harm to the security or integrity of this system or other systems or programs (whether maintained by DHS or another agency or entity) or harm to the individual who relies upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate Federal, State, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

H. To the Department of Justice and other Federal, State, and local governmental agencies having a prosecution function for the use of attorneys, magistrates, and judges; and the parole and probation authorities for the purpose of prosecuting, sentencing, and determining the parole and probation status of criminal offenders or suspected criminal offenders; and for civil and other proceedings involving USSS protective functions.

I. To Federal, State, and local governmental agencies, foreign and domestic, for the purposes of developing information on subjects involved in USSS protective investigations and the evaluation of persons considered to be of protective interest and for the purpose of protective functions.

J. To Federal, State, and local governmental agencies, private institutions and private individuals, for the purpose of implementing protective measures.

K. To personnel of Federal, State, and local governmental agencies, foreign and domestic, when reasonably necessary to the exercise of the USSS protective function.

L. To private institutions and private individuals, identifying information pertaining to actual or suspected criminal offenders or other individuals considered to be of protective interest, for the purpose of furthering USSS efforts to evaluate the danger such individuals pose to persons protected by the agency.

M. To a court, magistrate, or administrative tribunal in the course of presenting evidence, including disclosures to opposing counsel or witnesses in the course of civil discovery, litigation, or settlement negotiations or in connection with criminal law proceedings or in response to a subpoena from a court of competent jurisdiction.

N. To an appropriate Federal, State, local, tribal, foreign, or international agency, if the information is relevant and necessary to a requesting agency's decision concerning the hiring or retention of an individual, or the issuance of a security clearance, license, contract, grant, or other benefit, or if the information is relevant and necessary to a DHS decision concerning the hiring or retention of an employee, the issuance of a security clearance, the reporting of an investigation of an employee, the letting of a contract, the issuance of a license, grant or other benefit and when disclosure is appropriate to the proper performance of the official duties of the person making the request.

O. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

Disclosure to consumer reporting agencies:

None.

Policies and practices for storing, retrieving, accessing, retaining, and disposing of records in the system:

Storage:

Paper and electronic records in this system are stored in secure facilities behind locked doors. Electronic records media, such as magnetic tape, magnetic disk, digital media, and CD ROM are stored in proper environmental controls.

Retrievability:

This system is indexed by case number, name, and other identifying data and other case related data, in master and magnetic media indices. Records may be retrieved by any of these indices. Access to the physical files is located at field offices, Headquarters, and other Washington, DC locations.

Safeguards:

Records in this system are safeguarded in accordance with applicable rules and policies, including all applicable DHS and USSS automated systems security and access policies. Strict controls have been imposed to minimize the risk of compromising the information that is being stored, processed, and transmitted. Access to the records in this system is limited to those individuals who have a USSS approved need to know the information for the performance of their official duties and who have appropriate clearances or permissions.

Retention and disposal:

Protective intelligence case records, including non-judicial protective intelligence cases, are routinely retained for a period of up to 5 years from the date of last action; or for 10 years from the date of last action if they contain electronic records. All judicial records are retained for a period of 20 years from the date of last action, unless otherwise required to be held permanently for transfer to the National Archives and Records Administration. Files relating to issuance of White House Complex passes for employees of the White House, Secret Service Employees, press representatives accredited at the White House, and other authorized individuals are retained for a period of 8 years from the date the file is closed. Records pertaining to the administration and operations of Secret Service protective program, shift reports, survey files, and special event files are retained for a period of 3 to 5 years from the end of the event. Records pertaining to trip files for domestic travel are retained for 5 years, and trip files for foreign travel are retained for 10 years from the end of the event. Campaign related files are retained for a period of 30 years after the end of the campaign and subsequently transferred to the National Archives and Records Administration.

System Manager and address:

Assistant Director, Office of Strategic Intelligence and Information; Assistant Director, Office of Technical Development and Mission Support; and Assistant Director, Office of Protective Operations, U.S. Secret Service, 245 Murray Drive SW., Building T-5, Washington, DC 20223.

Notification procedure:

The Secretary of Homeland Security has exempted this system from the notification, access, and amendment procedures of the Privacy Act because it is a law enforcement system. However, DHS/USSS will consider individual requests to determine whether or not information may be released. Thus, individuals seeking notification of and access to any record contained in this system of records, or seeking to contest its content, may submit a request in writing to the USSS FOIA Officer, Freedom of Information and Privacy Acts Program, 245 Murray Drive, SW., Building T-5, Washington, DC 20223. If an individual believes more than one component maintains Privacy Act records concerning him or her, the individual may submit the request to the DHS FOIA Officer, whose contact information can be found at http://www.dhs.gov/foia.

When seeking records about yourself from this system of records or any other USSS system of records your request must conform with the Privacy Act regulations set forth in 6 CFR part 5. You must first verify your identity, meaning that you must provide your full name, current address and date and place of birth. You must sign your request, and your signature must either be notarized or submitted under 28 U.S.C. 1746, a law that permits statements to be made under penalty of perjury as a substitute for notarization. While no specific form is required, you may obtain forms for this purpose from the Director, Disclosure and FOIA, http://www.dhs.gov or 1-(866) 431-0486. In addition you should provide the following:

• An explanation of why you believe the Department would have information on you;

• Specify when you believe the records would have been created; and

• If your request is seeking records pertaining to another living individual, you must include a statement from that individual certifying his/her agreement for you to access his/her records.

Without this bulleted information USSS may not be able to conduct an effective search, and your request may be denied due to lack of specificity or lack of compliance with applicable regulations.

Record access procedures:

See “Notification procedure” above.

Contesting record procedures:

See “Notification procedure” above.

Record Source Categories:

The Secretary of Homeland Security has exempted this system from subsections (e)(4)(I) of the Privacy Act pursuant to 5 U.S.C. 552a(j)(2) and (k)(2) and (k)(3); therefore, records sources shall not be disclosed.

Exemptions claimed for the system:

Pursuant to exemption 5 U.S.C. 552a(j)(2) of the Privacy Act and the limitations therein, this system is exempt from 5 U.S.C. 552a(c)(3) and (4); (d); (e)(1), (e)(2), (e)(3), (e)(4)(G), (e)(4)(H), (e)(4)(I), (e)(5) and (e)(8); (f); and (g). Pursuant to 5 U.S.C. 552a (k)(1), (k)(2), and (k)(3) this system is exempt from the following provisions of the Privacy Act, subject to the limitations set forth in those subsections: 5 U.S.C. 552a(c)(3), (d), (e)(1), (e)(4)(G), (e)(4)(H), (e)(4)(I), and (f). In addition, to the extent a record contains information from other exempt Systems of Records, USSS will rely on the exemptions claimed for those systems.

Dated: September 22, 2011.
Mary Ellen Callahan,
Chief Privacy Officer, Department of Homeland Security.

[FR Doc. 2011-27883 Filed 10-27-11; 8:45 am]

BILLING CODE 4810-42-P